DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Actions

On August 24, 2021, OFAC determined that the property and interests in property subject to U.S. jurisdiction of the following persons are blocked under the relevant sanctions authority listed below.

Individuals

1. HIJAZI, Khalil Ahmad, Ciudad del Este, Paraguay; DOB 22 Aug 1961; POB Paraguay; nationality Paraguay; Gender Male; RUC # 1112312-5 (Paraguay) (individual) [GLOMAG] (Linked To: HIJAZI, Kassem Mohamad).

Designated pursuant to section 1(a)(iii)(A)(1) of Executive Order 13818 of December 20, 2017, “Blocking the Property of Persons Involved in Serious Human Rights Abuse or Corruption,” 82 FR 60839, 3 CFR, 2018 Comp., p. 399, (E.O. 13818) for having materially assisted, sponsored, or provided financial, material, or technological support for, or goods or services to or in support of, HIJAZI, Kassem Mohamad, a person whose property and interests in property are blocked pursuant to this order.

2. HIJAZI, Kassem Mohamad (a.k.a. HIJAZI, Kassem; a.k.a. HIJAZI, Kassem Mohamed), Ciudad del Este, Paraguay; DOB 15 Sep 1972; POB Foz de Iguacu, Brazil; Gender Male; RUC # 3481074-9 (Paraguay); National ID No. 4212398/SP (Brazil) (individual) [GLOMAG].

Designated pursuant to section 1(a)(iii)(A)(1) of E.O. 13818 for having materially assisted, sponsored, or provided financial, material, or technological support for, or goods or services to or in support of, corruption, including the misappropriation of state assets, the expropriation of private assets for personal gain, corruption related to government contracts or the extraction of natural resources, or bribery that is conducted by a foreign person.

3. DOLDAN GONZALEZ, Liz Paola (Latin: DOLDÁN GONZÁLEZ, Liz Paola) (a.k.a. DOLDAN GONZALEZ, Liz Paola Florinda (Latin: DOLDÁN GONZÁLEZ, Liz Paola Florinda)), Avenida Canadones Chaquenos Numero 23, Barrio Obrero, Ciudad Del Este, Paraguay; DOB 07 Sep 1986; POB Pdte. Stroessner, Paraguay; nationality Paraguay; Gender Female; Passport 3379699 (Paraguay); RUC # 3379699-8 (Paraguay) (individual) [GLOMAG].

Designated pursuant to section 1(a)(iii)(A)(1) of E.O. 13818 for having materially assisted, sponsored, or provided financial, material, or technological support for, or goods or services to or in support of corruption, including the misappropriation of state assets, the expropriation of private assets for personal gain, corruption related to government contracts or the extraction of natural resources, or bribery that is conducted by a foreign person.

Entities

1. ESPANA INFORMATICA S.A. (a.k.a. ESPANA INFORMATICA SA (Latin: ESPAÑA INFORMÁTICA SA)), Ciudad del Este, Paraguay; RUC # 80028331-7 (Paraguay) [GLOMAG] (Linked To: HIJAZI, Kassem Mohamad).

Designated pursuant to section 1(a)(iii)(B) of E.O. 13818 for being owned or controlled by, or to have acted or purported to act for or on behalf of, directly or indirectly, HIJAZI, Kassem Mohamad, a person whose property and interests in property are blocked pursuant to this order.

2. APOLO INFORMATICA S.A. (a.k.a. APOLO INFORMATICA; a.k.a. APOLO INFORMATICA SA; a.k.a. APOLO INFORMATICA SOCIEDAD ANONIMA), Ciudad del Este, Paraguay; RUC # 80068480-0 (Paraguay) [GLOMAG] (Linked To: HIJAZI, Khalil Ahmad).

Designated pursuant to section 1(a)(iii)(B) of E.O. 13818 for being owned or controlled by, or to have acted or purported to act for or on behalf of, directly or indirectly, HIJAZI, Khalil Ahmad, a person whose property and interests in property are blocked pursuant to this order.

3. EMPRENDIMIENTOS INMOBILIARIOS MISIONES S.A. (a.k.a. EMPRENDIMIENTOS INMOBILIARIOS MISIONES SOCIEDAD ANONIMA), Ciudad del Este, Paraguay; RUC # 80068352-8 (Paraguay) [GLOMAG] (Linked To: HIJAZI, Khalil Ahmad).

Designated pursuant to section 1(a)(iii)(B) of E.O. 13818 for being owned or controlled by, or to have acted or purported to act for or on behalf of, directly or indirectly, HIJAZI, Khalil Ahmad, a person whose property and interests in property are blocked pursuant to this order.

4. MUNDO INFORMATICO PARAGUAY S.A. (a.k.a. MUNDO INFORMATICO PARAGUAY SOCIEDAD ANONIMA), Ciudad del Este, Paraguay; RUC # 80068367-6 (Paraguay) [GLOMAG] (Linked To: HIJAZI, Khalil Ahmad).

Designated pursuant to section 1(a)(iii)(B) of E.O. 13818 for being owned or controlled by, or to have acted or purported to act for or on behalf of, directly or indirectly, HIJAZI, Khalil Ahmad, a person whose property and interests in property are blocked pursuant to this order.

5. MOBILE ZONE INTERNATIONAL IMPORT-EXPORT S.R.L. (a.k.a. MOBILE ZONE INTERNACIONAL IMPORT. EXPORT. S.R.L.; a.k.a. MOBILE ZONE INTERNACIONAL IMPORT-EXPORT S.R.L.), Ciudad del Este, Paraguay; RUC # 80071113-0 (Paraguay) [GLOMAG] (Linked To: DOLDAN GONZALEZ, Liz Paola).

Designated pursuant to section 1(a)(iii)(B) of E.O. 13818 for being owned or controlled by, or to have acted or purported to act for or on behalf of, directly or indirectly, DOLDAN GONZALEZ, Liz Paola, a person whose property and interests in property are blocked pursuant to this order.

Dated: August 24, 2021.
Bradley T. Smith,
Acting Director, Office of Foreign Assets Control.

[FR Doc. 2021-19033 Filed 9-2-21; 8:45 am]

BILLING CODE 4810-AL-P